DEPARTMENT OF LABOR

Occupational Safety and Health Administration

[Docket No. OSHA-2009-0025]

UL LLC: Grant of Expansion of Recognition and Modification to the NRTL Program's List of Appropriate Test Standards

AGENCY: Occupational Safety and Health Administration (OSHA), Labor.

ACTION: Notice.

SUMMARY: In this notice, OSHA announces the final decision to expand the scope of recognition for UL LLC, as a Nationally Recognized Testing Laboratory (NRTL). Additionally, OSHA will add one standard to the NRTL Program's List of Appropriate Test Standards.

DATES: The expansion of the scope of recognition becomes effective on July 24, 2025.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-1911 or email: robinson.kevin@dol.gov.

SUPPLEMENTARY INFORMATION:

I. Notice of the Final Decision

OSHA hereby gives notice of the expansion of the scope of recognition of UL LLC (UL) as a NRTL. UL's expansion covers the addition of one test site and two test standards to the NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition, as well as for an expansion or renewal of recognition, following requirements in Appendix A to 29 CFR 1910.7. This appendix requires that the agency publish two notices in the Federal Register in processing an application. In the first notice, OSHA announces the application and provides the preliminary finding. In the second notice, the agency provides the final decision on the application. These notices set forth the NRTL's scope of recognition or modifications of that scope. OSHA maintains an informational web page for each NRTL, including UL, which details that NRTL's scope of recognition. These pages are available from the OSHA website at http://www.osha.gov/dts/otpca/nrtl/index.html.

UL submitted three applications for expansion of the NRTL scope of recognition. The first application, dated November 29, 2022 (OSHA-2009-0025-0069), requested expanded recognition as a NRTL to include one additional test site located at: Phu Thai Vietnam, Lot DH, Lai Vu Industrial Park. UL submitted a second application, dated March 19, 2024 (OSHA-2009-0025-0070), requesting the addition of one test standard to the NRTL scope of recognition. A third application was submitted on November 15, 2024 (OSHA-2009-0025-0071), requesting the addition of one test standard to the NRTL scope of recognition. In total, the expansion applications requested the addition of one test site and two test standards to the NRTL scope of recognition.

OSHA staff performed an on-site review of UL's testing facility in UL Vietnam on August 4-6, 2024, in which assessors found some nonconformances with the requirements of 29 CFR 1910.7. UL addressed these issues sufficiently, and OTPCA preliminarily determined that OSHA should grant the application requests to add this one test site and these two test standards to UL's NRTL scope of recognition.

OSHA published the preliminary notice announcing UL's expansion applications in the Federal Register on April 25, 2025 (90 FR 17467). The agency requested comments by May 12, 2025, however no comments were received in response to this notice. OSHA is now proceeding with this notice to grant expansion of UL's scope of recognition.

To obtain or review copies of all public documents pertaining to the UL expansion applications, go to www.regulations.gov or contact the Docket Office (202) 693-2350 (TTY (877) 889-5627). Docket No. OSHA-2009-0025 contains all materials in the record containing UL's NRTL recognition.

II. Final Decision and Order

OSHA staff examined UL's expansion applications, conducted a detailed on-site assessment, and examined other pertinent information. Based on review of this evidence, OSHA finds that UL meets the requirements of 29 CFR 1910.7 for expansion of recognition, subject to the specified limitations and conditions. OSHA, therefore, is proceeding with this final notice to grant UL's scope of recognition. OSHA limits the expansion of UL's recognition to include the site located at: Phu Thai Vietnam, Lot DH, Lai Vu Industrial Park and two additional testing standards. OSHA's recognition of the site limits UL to performing product testing and certifications only to the test standards for which the site has the proper capability and programs, and for test standards in UL's scope of recognition. This limitation is consistent with the recognition that OSHA grants to other NRTLs that operate multiple sites. Additionally, OSHA grants UL expansion of the NRTL scope of recognition to include the additional test standards listed below in Table 1 below:

Table 1—Appropriate Test Standards for Inclusion in UL's NRTL Scope of Recognition
Test standard | Test standard title
UL 60335-2-29 | Household and Similar Electrical Appliances—Safety—Part 2-29: Particular Requirements for Battery Chargers.
UL 2056 * | Power Banks.
* Represents standard that OSHA is adding to the NRTL Program's List of Appropriate Test Standards.

OSHA's recognition of any NRTL for a particular test standard is limited to equipment or materials for which OSHA standards require third-party testing and certification before using them in the workplace. Consequently, if a test standard also covers any products for which OSHA does not require such testing and certification, a NRTL's scope of recognition does not include these products.

In this notice, OSHA also announces the final decision to add one new test standard to the NRTL Program's List of Appropriate Test Standards. Table 2 below lists the standard that is new to the NRTL Program. OSHA has determined that this test standard is an appropriate test standard and will add it to the NRTL Program's List of Appropriate Test Standards.

Table 2—Standard OSHA Is Adding to the NRTL Program's List of Appropriate Test Standards
Test standard | Test standard title
UL 2056 | Power Banks.

The American National Standards Institute (ANSI) may approve the test standard listed above as an American National Standard. However, for convenience, we may use the designation of the standards-developing organization for the standard as opposed to the ANSI designation. Under the NRTL Program's policy (see OSHA Instruction CPL 01-00-004, Chapter 2, Section VIII), any NRTL recognized for a particular test standard may use either the proprietary version of the test standard or the ANSI version of that standard. Contact ANSI to determine whether a test standard is currently ANSI-approved.

A. Conditions

In addition to those conditions already required by 29 CFR 1910.7, UL must abide by the following conditions of the recognition:

1. UL must inform OSHA as soon as possible, in writing, of any change of ownership, facilities, or key personnel, and of any major change in its operations as a NRTL, and provide details of the change(s);

2. UL must meet all the terms of its recognition and comply with all OSHA policies pertaining to this recognition; and

3. UL must continue to meet the requirements for recognition, including all previously published conditions on UL's scope of recognition, in all areas for which it has recognition.

Pursuant to the authority in 29 CFR 1910.7, OSHA hereby expands the scope of recognition of UL as a NRTL, subject to the limitations and conditions specified above. Additionally, OSHA will add one standard to the NRTL Program's List of Appropriate Test Standards.

III. Authority and Signature

Amanda Laihow, Acting Assistant Secretary of Labor for Occupational Safety and Health, 200 Constitution Avenue NW, Washington, DC 20210, authorized the preparation of this notice. Accordingly, the agency is issuing this notice pursuant to 29 U.S.C. 657(g)(2), Secretary of Labor's Order No. 7-2027 (90 FR 27878; June 30, 2025), and 29 CFR 1910.7.

Signed at Washington, DC, on July 8, 2025.
Amanda Laihow,
Acting Assistant Secretary of Labor for Occupational Safety and Health.

[FR Doc. 2025-13888 Filed 7-23-25; 8:45 am]

BILLING CODE 4510-26-P